DEPARTMENT OF ENERGY

Federal Energy Regulatory Commission

[Docket No. ER00-2372-000, et al.]

PPL Montana, LLC, et al.; Electric Rate and Corporate Regulation Filings

May 4, 2000.

Take notice that the following filings have been made with the Commission:

1. PPL Montana, LLC

[Docket No. ER00-2372-000]

Take notice that on April 28, 2000, PPL Montana, LLC (PPL Montana) filed a Service Agreement dated March 17, 2000 with Energy West Resources, Inc. (Energy West) under PPL Montana's Market-Based Rate Tariff, FERC Electric Tariff, Original Volume No. 1. The Service Agreement adds Energy West as an eligible customer under the Tariff.

PPL Montana requests an effective date of March 31, 2000 for the Service Agreement.

PPL Montana states that Commercial Energy has been served with a copy of this filing.

Comment date: May 19, 2000, in accordance with Standard Paragraph E at the end of this notice.

2. Energy East Corporation and CMP Group, Inc.

[Docket No. ER00-2373-000]

Take notice that on April 26, 2000, Central Maine Power Company (CMP or Central Maine) submitted for filing revised pages to CMP's Open Access Transmission Tariff in compliance with the Commission's April 3, 2000 order in Docket No. EC00-01-000. CMP states the revised pages reflect a reduction to CMP's otherwise applicable Local Point-To-Point Transmission Service charges for transactions that involve wheels from a generator on CMP's non-pool transmission facilities system.

CMP states that copies of the filing have been served upon all parties identified on the official service list for this proceeding.

Comment date: May 17, 2000, in accordance with Standard Paragraph E at the end of this notice.

3. Florida Power Corporation

[Docket No. OA96-73-003]

Take notice that on April 28, 2000, Florida Power Corporation tendered for filing with the Federal Energy Regulatory Commission (Commission), a letter in compliance with the Commission's order in Allegheny Power Service Co., et al., 90 FERC ¶ 61,224 (2000).

Comment date: June 5, 2000, in accordance with Standard Paragraph E at the end of this notice.

4. Florida Power Corporation

[Docket No. OA97-362-001]

Take notice that on April 28, 2000, Florida Power Corporation tendered for filing with the Federal Energy Regulatory Commission (Commission), a letter in compliance with the Commission's order in Allegheny Power Service Co., et al., 90 FERC ¶ 61,224 (2000).

Comment date: June 5, 2000, in accordance with Standard Paragraph E at the end of this notice.

5. Florida Power Corporation

[Docket No. OA97-389-001]

Take notice that on April 28, 2000, Florida Power Corporation tendered for filing with the Federal Energy Regulatory Commission (Commission), a letter in compliance with the Commission's order in Allegheny Power Service Co., et al., 90 FERC ¶ 61,224 (2000).

Comment date: June 5, 2000, in accordance with Standard Paragraph E at the end of this notice.

6. Midwest Independent Transmission System Operator, Inc.

[Docket No. ER98-1438-006]

Take notice that on April 28, 2000, the Midwest ISO Transmission Owners, submitted their transmission loss factors that will be used in connection with the loss recovery methodology of the Midwest Independent Transmission System Operator, Inc. (Midwest ISO). The Midwest ISO Transmission Owners state that the filing of revised loss factors that are consistent with the transmission loss recovery method set forth in the Midwest ISO Tariff is required by the April 6, 1999 “Additional Joint Stipulation between the Midwest ISO Participants and the Commission Trial Staff Concerning Recovery of Losses” in Docket Nos. ER98-1438-000, et al.

The Midwest ISO Transmission Owners request that the Commission find in a final order issued no later than September 1, 2001 that the loss factors are just and reasonable so that final approved loss factors can be available for use in connection with the Midwest ISO Tariff when such Tariff becomes effective.

Comment date: May 19, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-11771 Filed 5-10-00; 8:45 am]

BILLING CODE 6717-01-P